ENVIRONMENTAL PROTECTION AGENCY

[EPA-HQ-OAR-2020-0622; FRL-12632-01-OMS]

Agency Information Collection Activities; Submission to the Office of Management and Budget for Review and Approval; Comment Request; NESHAP for Wood Furniture Manufacturing Operations (Renewal)

AGENCY: Environmental Protection Agency (EPA).

ACTION: Notice.

SUMMARY: The Environmental Protection Agency (EPA) has submitted an information collection request (ICR), NESHAP for Wood Furniture Manufacturing Operations (EPA ICR Number 1716.12, OMB Control Number 2060-0324) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2020-0622, to EPA online using https://www.regulations.gov/ (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 during a 60-day comment period (88 FR 31748). This notice allows for an additional 30 days for public comments. Supporting documents which explain in detail the information that the EPA will be collecting are available in the public docket for this ICR. The docket can be viewed online at https://www.regulations.gov or in person at the EPA Docket Center, WJC West Building, Room 3334, 1301 Constitution Ave. NW, Washington, DC. The telephone number for the Docket Center is 202-566-1744. For additional information about EPA's public docket, visit http://www.epa.gov/dockets.

Abstract: The National Emission Standards for Hazardous Air Pollutants (NESHAP) for Wood Furniture Manufacturing Operations (40 CFR part 63, subpart JJ) were proposed on December 6, 1994; promulgated on December 7, 1995; and amended on both November 21, 2011, and November 19, 2020. These standards apply to both existing and new wood furniture manufacturing operations that are major sources of hazardous air pollutants (HAPs). A “major source” is a stationary source or group of stationary sources that either emit or have the potential to emit 10 tons per year (tpy) or more of a single HAP or 25 tpy or more of a combination of HAPs. New facilities include those that commenced construction, modification, or reconstruction after the date of proposal. This information is being collected to assure compliance with 40 CFR part 63, subpart JJ.

These standards also apply to existing and new incidental sources and to area sources. These sources are required to maintain purchase or usage records demonstrating that they meet the definition for incidental or area sources. Incidental and area sources are not subject to any other provisions of these standards. An “incidental source,” is a major source that is primarily engaged in the manufacture of products other than wood furniture or wood furniture components, and that uses no more than 100 gallons per month of finishing material or adhesives in the manufacture of wood furniture or wood furniture components. An “area source” is any stationary source that is not a major source.

Form numbers: None.

Respondents/affected entities: Wood furniture manufacturing facilities.

Respondent's obligation to respond: Mandatory (40 CFR part 63, subpart JJ).

Estimated number of respondents: 230 (total).

Frequency of response: Initially, occasionally, quarterly, semiannually, and annually.

Total estimated burden: 15,900 hours (per year). Burden is defined at 5 CFR 1320.3(b).

Total estimated cost: $2,020,000 (per year), includes $17,400 annualized capital or operation & maintenance costs.

Changes in the estimates: There is no change in burden from the recently approved ICR. This is due to two considerations. First, the regulations have not changed over the past three years and are not anticipated to change over the next three years. Second, the growth rate for this industry is very low or non-existent, so there is no significant change in the overall burden. There is also an increase in O&M costs due to an adjustment. The O&M costs were adjusted from 2001 $ to 2022 $ using the CEPCI Index.

Courtney Kerwin,
Director, Information Engagement Division.

[FR Doc. 2025-03256 Filed 2-27-25; 8:45 am]

BILLING CODE 6560-50-P